DEPARTMENT OF TRANSPORTATION

Federal Aviation Administration

14 CFR Part 39

[Docket No. FAA-2008-0365; Directorate Identifier 2007-NM-274-AD; Amendment 39-15563; AD 2008-12-19]

RIN 2120-AA64

Airworthiness Directives; Dassault Model Mystère-Falcon 900 and Falcon 900EX Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

This Airworthiness Directive (AD) is issued following the discovery of a potential chafing between the feeder bundle and the right side partition wall separating the cabin from the lavatory at frames 22/23. This chafing may damage the feeder bundle and cause a sustained smoke-generating short-circuit between the feeder and the partition wall made of resistive composite material. Strong smoke and a difficult-to-localize short-circuit may result in a hazardous situation.

The unsafe condition is sustained smoke in the cabin, which may lead to reduced ability of the flightcrew to operate the airplane. We are issuing this AD to require actions to correct the unsafe condition on these products.

DATES: This AD becomes effective July 24, 2008.

The Director of the Federal Register approved the incorporation by reference of certain publications listed in this AD as July 24, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 31, 2008 (73 FR 16784). That NPRM proposed to correct an unsafe condition for the specified products. The MCAI states:

This Airworthiness Directive (AD) is issued following the discovery of a potential chafing between the feeder bundle and the right side partition wall separating the cabin from the lavatory at frames 22/23. This chafing may damage the feeder bundle and cause a sustained smoke-generating short-circuit between the feeder and the partition wall made of resistive composite material. Strong smoke and a difficult-to-localize short-circuit may result in a hazardous situation.

The unsafe condition is sustained smoke in the cabin, which may lead to reduced ability of the flightcrew to operate the airplane. Corrective actions include inspecting for damage of the feeder cables, repairing any damaged feeder cable, installing a protective Teflon tube over the feeder cable bundle, and modifying the partition wall. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 38 products of U.S. registry. We also estimate that it will take about 3 work-hours per product to comply with the basic requirements of this AD. The average labor rate is $80 per work-hour. Required parts will cost about $34 per product. Where the service information lists required parts costs that are covered under warranty, we have assumed that there will be no charge for these parts. As we do not control warranty coverage for affected parties, some parties may incur costs higher than estimated here. Based on these figures, we estimate the cost of this AD to the U.S. operators to be $10,412, or $274 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-12-19 Dassault Aviation: Amendment 39-15563. Docket No. FAA-2008-0365; Directorate Identifier 2007-NM-274-AD.

Effective Date

(a) This airworthiness directive (AD) becomes effective July 24, 2008.

Affected ADs

(b) None.

Applicability

(c) This AD applies to the Dassault airplanes described in paragraphs (c)(1) and (c)(2) of this AD, certificated in any category.

(1) Model Mystère-Falcon 900 airplanes, serial numbers 188 through 202 inclusive, except those on which both Dassault Service Bulletins F900-358 and F900-359 have already been implemented, or Modification M3891 has already been implemented.

(2) Model Falcon 900EX airplanes, serial numbers 82 through 146 inclusive, except those on which both Dassault Service Bulletins F900EX-241 and F900EX-251 have already been implemented, or Modification M3891 has already been implemented.

Subject

(d) Air Transport Association (ATA) of America Code 24: Electrical Power.

Reason

(e) The mandatory continuing airworthiness information (MCAI) states:

This Airworthiness Directive (AD) is issued following the discovery of a potential chafing between the feeder bundle and the right side partition wall separating the cabin from the lavatory at frames 22 / 23. This chafing may damage the feeder bundle and cause a sustained smoke-generating short-circuit between the feeder and the partition wall made of resistive composite material. Strong smoke and a difficult-to-localize short-circuit may result in a hazardous situation.

The unsafe condition is sustained smoke in the cabin, which may lead to reduced ability of the flightcrew to operate the airplane. Corrective actions include inspecting for damage of the feeder cables, repairing any damaged feeder cable, installing a protective Teflon tube over the feeder cable bundle, and modifying the partition wall.

Actions and Compliance

(f) Unless already done, do the following actions.

(1) For Model Mystère-Falcon 900 airplanes: Do the actions specified in paragraphs (f)(1)(i) and (f)(1)(ii) of this AD.

(i) Within 330 flight hours or 7 months after the effective date of this AD, whichever occurs first, inspect for damage of the feeder cable bundle at the right side partition wall at frames 22/23, and, if no damage of any feeder cable is found, before further flight, install a protective Teflon tube over the feeder cable bundle; in accordance with the Accomplishment Instructions of Dassault Service Bulletin F900-358, Revision 1, dated July 19, 2006. If chafing or damage of any feeder cable is found, before further flight, repair the feeder cable in accordance with the Accomplishment Instructions of Dassault Service Bulletin F900-359, Revision 1, dated July 19, 2006; and install a protective Teflon tube over the feeder cable bundle in accordance with Dassault Service Bulletin F900-359, Revision 1, or Dassault Service Bulletin F900-358, Revision 1.

(ii) Within 3,750 flight cycles or 74 months after the effective date of this AD, whichever occurs first, modify the right side partition wall at frames 22/23; in accordance with the Accomplishment Instructions of Dassault Service Bulletin F900-359, Revision 1, dated July 19, 2006. Implementation of both Dassault Service Bulletin F900-358 and Dassault Service Bulletin F900-359, both Revision 1, both dated July 19, 2006, terminates the requirements of this AD for Model Mystère-Falcon 900 airplanes.

(2) For Model Falcon 900EX airplanes: Do the actions specified in paragraphs (f)(2)(i) and (f)(2)(ii) of this AD.

(i) Within 330 flight hours or 7 months after the effective date of this AD, whichever occurs first, inspect for damage of the feeder cable bundle at the right side partition wall at frames 22/23, and, if no such damage of any feeder cable is found, before further flight, install a protective Teflon tube over the feeder cable bundle; in accordance with the Accomplishment Instructions of Dassault Service Bulletin F900EX-241, Revision 1, dated July 19, 2006. If any damage of any feeder cable is found, before further flight, repair the feeder cable in accordance with the Accomplishment Instructions of Dassault Service Bulletin F900EX-251, Revision 1, dated July 19, 2006; and install a protective Teflon tube over the feeder cable bundle in accordance with Dassault Service Bulletin F900EX-251, Revision 1, or Dassault Service Bulletin F900EX-241, Revision 1.

(ii) Within 3,750 flight cycles or 74 months after the effective date of this AD, whichever occurs first, modify the right side partition wall at frames 22/23, in accordance with the Accomplishment Instructions of Dassault Service Bulletin F900EX-251, Revision 1, dated July 19, 2006. Implementation of both Dassault Service Bulletin F900EX-241 and Dassault Service Bulletin F900EX-251, both Revision 1, both dated July 19, 2006, terminates the requirements of this AD for Model Falcon 900EX airplanes.

Actions Accomplished According to Previous Issue of Service Bulletin

(g) Actions accomplished before the effective date of this AD, in accordance with the service information described in Table 1 of this AD, are considered acceptable for compliance with the corresponding actions specified in this AD.

Table 1.—Previous Service Information
Airplane model | Dassault service bulletin | Date
Falcon 900EX | F900EX-241 | October 19, 2005.
Falcon 900EX | F900EX-251 | October 19, 2005.
Mystère-Falcon 900 | F900-358 | October 19, 2005.
Mystère-Falcon 900 | F900-359 | October 19, 2005.

FAA AD Differences

Note: This AD differs from the MCAI and/or service information as follows: No differences.

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI European Aviation Safety Agency (EASA) Airworthiness Directive 2006-0270, dated September 4, 2006, and the service bulletins described in Table 2 of this AD, for related information.

Table 2.—Dassault Service Information
Service bulletin | Revision | Dated
F900EX-241 | 1 | July 19, 2006.
F900EX-251 | 1 | July 19, 2006.
F900-358 | 1 | July 19, 2006.
F900-359 | 1 | July 19, 2006.

Material Incorporated by Reference

(j) You must use the service information specified in Table 3 of this AD to do the actions required by this AD, as applicable, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Table 3.—Material Incorporated by Reference
Dassault service bulletin | Revision | Date
F900EX-241 | 1 | July 19, 2006.
F900EX-251 | 1 | July 19, 2006.
F900-358 | 1 | July 19, 2006.
F900-359 | 1 | July 19, 2006.

Issued in Renton, Washington, on June 5, 2008.
Michael J. Kaszycki,
Acting Manager, Transport Airplane Directorate, Aircraft Certification Service.

[FR Doc. E8-13589 Filed 6-18-08; 8:45 am]

BILLING CODE 4910-13-P